SMALL BUSINESS ADMINISTRATION

[Disaster Declaration #17518 and #17519; South Dakota Disaster Number SD-00131]

Presidential Declaration of a Major Disaster for Public Assistance Only for the State of South Dakota

AGENCY: U.S. Small Business Administration.

ACTION: Notice.

SUMMARY: This is a Notice of the Presidential declaration of a major disaster for Public Assistance Only for the State of SOUTH DAKOTA (FEMA-4656-DR), dated 06/29/2022.

Incident: Severe Storm, Straight-line Winds, Tornadoes, and Flooding.

Incident Period: 05/12/2022.

DATES: Issued on 06/29/2022.

Physical Loan Application Deadline Date: 08/29/2022.

Economic Injury (EIDL) Loan Application Deadline Date: 03/29/2023.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW, Suite 6050, Washington, DC 20416, (202) 205-6734.

SUPPLEMENTARY INFORMATION: Notice is hereby given that as a result of the President's major disaster declaration on 06/29/2022, Private Non-Profit organizations that provide essential services of a governmental nature may file disaster loan applications at the address listed above or other locally announced locations.

The following areas have been determined to be adversely affected by the disaster:

Primary Counties:Aurora, Beadle, Bon Homme, Brookings, Clay, Codington, Day, Deuel, Grant, Hamlin, Hanson, Hutchinson, Kingsbury, Lake, Mccook, Miner, Minnehaha, Moody, Roberts, Turner, Flandreau Santee Sioux Tribe of South Dakota and the Sisseton-Wahpeton Oyate of the Lake Traverse Reservation.

The Interest Rates are:

| Percent
For Physical Damage:
Non-Profit Organizations with Credit Available Elsewhere | 1.875
Non-Profit Organizations without Credit Available Elsewhere | 1.875
For Economic Injury:
Non-Profit Organizations without Credit Available Elsewhere | 1.875

The number assigned to this disaster for physical damage is 17518 B and for economic injury is 17519 0.

(Catalog of Federal Domestic Assistance Number 59008)

Joshua Barnes,
Acting Associate Administrator for Disaster Assistance.

[FR Doc. 2022-15111 Filed 7-14-22; 8:45 am]

BILLING CODE 8026-09-P